DEPARTMENT OF LABOR

Employment and Training Administration

[TA-W-52,601]

Congress Industries, Hawthorne, NJ; Notice of Termination of Investigation

Pursuant to section 221 of the Trade Act of 1974, an investigation was initiated on August 18, 2003, in response to a petition filed by the Union of Needletrades, Industrial and Textile Employees, Local 1733, on behalf of workers at Congress Industries, Inc., Hawthorne, New Jersey (TA-W-52,601).

The petitioner has requested that the petition be withdrawn. Consequently, further investigation in this case would serve no purpose, and the investigation has been terminated.

Signed in Washington, DC, this 11th day of September, 2003.
Linda G. Poole,
Certifying Officer, Division of Trade Adjustment Assistance.

[FR Doc. 03-27441 Filed 10-30-03; 8:45 am]

BILLING CODE 4510-30-P